DEPARTMENT OF TRANSPORTATION

Federal Aviation Administration

[Docket No. FAA-2019-0631]

Agency Information Collection Activities: Requests for Comments; Clearance of New Approval of Information Collection: Service Availability Prediction Tool (SAPT)

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on August 22, 2019. The collection involves aircraft operators using pre-flight availability predictions for navigation and surveillance and submitting a request for an authorization from air traffic control (ATC) via a web-based tool and application process. The collected information is necessary to:

(1) Predict whether an aircraft flying the proposed route of flight will have sufficient position accuracy and integrity for:

(a) Navigation, via the Receiver Autonomous Integrity Monitoring (RAIM) SAPT

(b) Surveillance, via the Automatic Dependent Surveillance—Broadcast (ADS-B) SAPT

(2) Allow operators to request authorization, via ADS-B Deviation Authorization Preflight Tool (ADAPT), from ATC to operate aircraft that do not fully meet ADS-B Out equipage or performance requirements, in airspace that requires ADS-B Out.

DATES: Written comments should be submitted by December 30, 2019.

ADDRESSES: Interested persons are invited to submit written comments on the proposed information collection to the Office of Information and Regulatory Affairs, Office of Management and Budget. Comments should be addressed to the attention of the Desk Officer, Department of Transportation/FAA and sent via email to oira_submission@omb.eop.gov, or faxed to (202) 395-6974, or mailed to the Office of Information and Regulatory Affairs, Office of Management and Budget, Docket Library, Room 10102, 725 17th Street NW, Washington, DC 20503.

FOR FURTHER INFORMATION CONTACT: For further questions concerning this action, contact Mr. David Gray, Deputy Director (Acting), Surveillance Directorate, AJM-4, Air Traffic Organization, Federal Aviation Administration, by email at: David.E.Gray@faa.gov or +1-202-267-0513.

SUPPLEMENTARY INFORMATION:

Public Comments Invited: You are asked to comment on any aspect of this information collection, including (a) whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

OMB Control Number: 2120-XXXX.

Title: Service Availability Prediction Tool (SAPT).

Form Numbers: Information is collected via a website specific to SAPT at https://sapt.faa.gov.

Type of Review: New information collection.

Background: The Federal Register Notice with a 60-day comment period soliciting comments on the following collection of information was published on August 22, 2019. 84 FR 43861. Service Availability Prediction Tool (SAPT) was developed by the United States (U.S.) Department of Transportation (DOT), John A. Volpe National Transportation Systems Center (Volpe Center) for the Surveillance and Broadcast Services (SBS) organization within the FAA.

The SAPT is intended for pilots, dispatchers, and commercial operators to check their predicted navigation and surveillance availability before a flight. The SAPT has three main components: Receiver Autonomous Integrity Monitoring (RAIM) SAPT, Automatic Dependent Surveillance-Broadcast (ADS-B) SAPT, and ADS-B Deviation Authorization Pre-Flight Tool (ADAPT).

RAIM SAPT use is voluntary and intended for pilots, dispatchers, and commercial service providers using Technical Standard Order (TSO)-C129 equipment to check the availability of Global Positioning System (GPS) RAIM for a proposed route of flight, satisfying the area navigation (RNAV) guidance as outlined in AC 90-100A Change 2, Paragraph 10(5). RAIM SAPT users can view RAIM outage predictions on RAIM Summary Displays to graphically view RAIM outage predictions for specific equipment configurations. RAIM SAPT predictions are only available through an XML-based web service. RAIM SAPT users can use the XML-based web service, most commonly used by flight planning software, to enter specific route of flight information by the operator checking RAIM outage predictions. RAIM SAPT does not collect personally identifiable information details about the operator(s).

The ADS-B SAPT is provided to help operators comply with 14 CFR 91.225 and 91.227 by predicting whether operators will meet regulatory requirements and to advise holders of FAA Exemption No. 12555 whether back-up surveillance will be available where installed aircraft avionics are not predicted to meet the requirements of 14 CFR 91.227(c)(1)(i) and (iii). For operators of aircraft equipped with TSO-C129 (Selective Availability (SA)-On) GPS receivers, the operator may run a preflight prediction using ADS-B SAPT as one option to help meet their requirements. Information collected via ADS-B SAPT is comparable to that already provided in flight plans, with the addition of some information about the aircraft position source's TSO and related capabilities. Operators using the ADS-B SAPT must enter aircraft identification. The ADS-B SAPT does not collect other personally identifiable information details about the operator. When an operator performs a preflight availability prediction using the FAA's SAPT, the SAPT retains a record of each transaction enabling the FAA to confirm that an operator took preflight action. The FAA recommends that operators using an alternate tool retain documentation that verifies the completion of the satisfactory preflight availability prediction for each intended route of flight. 84 FR 31713 (July 3, 2019).

ADAPT is provided to make limited accommodations for those operators desiring to fly without meeting the ADS-B equipage or performance requirements, in certain circumstances. ADAPT allows operators to create an air traffic authorization request to operate, as allowed in 14 CFR 91.225(g). As a requirement for using ADAPT, operators must first complete the ADS-B SAPT “Flight Information Entry” form to determine if there is sufficient backup surveillance coverage throughout their planned flight. Operators must enter their personal contact information to enable the FAA to reply with either an approval, rejection, or pending decision. ADAPT does collect personal identifying information to include name, telephone number, and email. RAIM SAPT website offers a Grid Display Tool and Summary Displays which can be used to graphically view RAIM outage predictions for specific equipment configurations. It also supports an XML-based web service for automated checking of RAIM compliance (relative to the AC 90-100A rule) by flight planning software. The following information is required:

(1) Aircraft Identification (as filed on the Flight Plan; optional)

(2) Route of Flight, including:

(a) Waypoint Name (optional)

(b) Lat/Long

(c) Estimated time over (ETO)

(d) Requested Horizontal Alert Limit (HAL) (optional; default = 555.6(NPA))

(3) Request Identifier (user-defined ID string; optional)

(4) Mask Angle (optional; default 5.0)

(5) Baro Aiding (true/false; optional; default = false)

ADS-B SAPT predictions may be made using XML or using the SAPT “Flight Information Entry” form, which has been modeled after a standard FAA Flight Plan form for ease of use. All the active fields of the “Flight Information Entry” form require an operator to enter relevant data. Operators may save and load active field information as well as cut and paste from an International Civil Aviation Organization (ICAO) Flight Plan. The following information is required:

(1) Aircraft Identification (or “Call Sign”)

(2) Aircraft Type

(3) ADS-B Position Source TSO (or unequipped)

(4) ADS-B link TSO (or unequipped)

(5) Proposed Departure Time (UTC)

(6) Planned Altitude

(7) Departure Airport

(8) Destination Airport

(9) Route of Flight

If the operator desires to fly an aircraft that is not equipped with ADS-B or that is predicted to not meet the required position performance, the operator may request an authorization from ATC to deviate from the equipage or performance requirements of 14 CFR 91.225 or 91.227, under certain circumstances. To relieve the potential burden on ATC facilities, the FAA developed the ADAPT to manage aircraft operator requests for an ATC authorization. In addition to the information required for ADS-B SAPT, the following information is required for ADAPT:

(1) Pilot in Command (PIC)

(2) PIC Telephone Number

(3) PIC Email Address

(4) U.S. Civil Aircraft Registry Number or ICAO Address (hex, octal or decimal)

(5) ADS-B Equipment Status (unequipped, inoperative, insufficient)

(6) Working Transponder with Altitude Reporting? Yes/No

(7) Affected en route ATC facilities

(8) Flight Classification: Part 91, 121, 129, or 135

(9) Reason for Request

(10) Certification of Truthfulness

The SAPT or ADAPT “Flight Information Entry” form (the form is the same and either can be selected) is used by the aircraft operator to enter the specific flight details. SAPT will analyze the flight, and if the aircraft is not predicted to the position accuracy requirements of 14 CFR 91.227, the operator may submit a request to the FAA for an ATC authorization using ADAPT. A non-equipped aircraft will automatically fail the ADS-B performance requirements but the operator is still required to first use ADS-B SAPT, because the SAPT analysis provides alternate surveillance information that is necessary for evaluating an ATC authorization request.

Although forms used on the SAPT/ADAPT web pages are similar to forms used for VFR/IFR flight plan filing, SAPT/ADAPT web forms are for gathering operator information needed for prediction and application process purposes only. Operator information submitted via SAPT/ADAPT will not generate, nor should they be considered, formal IFR/VFR flight plan submissions.

For more information on the SAPT, see SAPT User Guide at: https://www.sapt.faa.gov/default.php.

The FAA published a Federal Register Notice on SAPT on August 22, 2019. 84 FR 43861. The FAA received one response within the comment period. The commenter expressed concern with regard to the requirement to conduct subsequent predictions using SAPT when there are changes in satellite constellation. The commenter is concerned that an ongoing duty to execute an updated SAPT would be economically burdensome and disruptive to operations. The commenter recommended that a change to the satellite constellation not trigger an updated SAPT prediction after a flight plan has been filed with ATC.

After an operator receives a satisfactory preflight availability prediction for an intended operation, there may be certain conditions that warrant a subsequent prediction. There is no requirement to continuously monitor Notices to Airmen (NOTAMs); rather, the requirement to execute an updated SAPT is triggered only if the operator becomes aware of the condition. A change in the GPS satellite constellation, as indicated by a NOTAM, may have an effect on the predicted GPS performance for the intended operation. If an operator becomes aware of a change that could result in degraded GPS performance for the intended route prior to receiving an initial ATC clearance, the operator should conduct a subsequent preflight availability prediction consistent with 14 CFR 91.103. The duty to conduct a subsequent preflight availability prediction for an intended route of flight ceases once an operator receives an ATC route clearance for the intended operation.

The FAA is seeking comments from the public regarding the information that is collected for SAPT and its three main components: RAIM SAPT, ADS-B SAPT, and ADAPT. The information provided in this notice is solely to identify and collect information from the public on the potential burden to an individual that may result from this program.

Respondents: These prediction tools are primarily intended for pilots and dispatchers; anyone who is planning a flight which passes through U.S. sovereign airspace using an aircraft whose GPS receiver(s) is/are not guaranteed to meet certain performance requirements or whose aircraft is not equipped to meet requirements of 14 CFR 91.225.

Frequency: On occasion as part of flight planning and as required by FAA policy.

RAIM SAPT—3 minutes or less.

ADS-B SAPT—3 minutes or less.

(It is anticipated that RAIM SAPT and ADS-B SAPT requests will be automated into the eXtensible Markup Language (XML) that operators may use to plan flights, eliminating manual data-entry)

ADAPT—7 minutes or less (includes up to 2 minutes for FAA email response).

Estimated Total Annual Burden: Total estimate of burden hours:

RAIM SAPT—estimating 224,475 annual responses (Part 121/129 Operators) is approximately 11,224 hours.

ADS-B SAPT—estimating 271,099 annual responses (Part 121/129 and General Aviation (GA) Operators) is approximately 13,555 hours.

ADAPT—estimating 203,822.5 annual responses (General Aviation (GA) Operators) is approximately 23,847 hours.

Issued in Washington, DC.
David E. Gray,
Acting Deputy Director, Surveillance Services (AJM-4), Program Management Organization, Air Traffic Organization, Federal Aviation Administration.

[FR Doc. 2019-25923 Filed 11-27-19; 8:45 am]

BILLING CODE 4910-13-P